DEPARTMENT OF THE INTERIOR

Bureau of Land Management

[OR-130-1020-PH; GP4-0172]

Notice of Public Meeting, Eastern Washington Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) will meet for a field trip on May 27, 2004, starting from the Spokane District Office, Bureau of Land Management, 1103 North Fancher Road, Spokane, Washington, 99212-1275.

SUPPLEMENTARY INFORMATION: The RAC meeting will convene at the Spokane District Office, with a 30-minute public input time scheduled to commence at 9 a.m., contingent on public in attendance at that time. The remainder of the meeting will be a field tour to public lands BLM administers in western Lincoln County, departing from the Spokane BLM office about 9:30 a.m. and returning about 4 p.m.

Information to be distributed to Council members for their review is requested in written format 10 days prior to the Council meeting date.

FOR FURTHER INFORMATION CONTACT: Sandra Gourdin or Kathy Helm, Bureau of Land Management, Spokane District Office, 1103 N. Fancher Road, Spokane, Washington, 99212, or call (509) 536-1200.

Dated: April 29, 2004.
Joseph K. Buesing,
District Manager.

[FR Doc. 04-10178 Filed 5-4-04; 8:45 am]

BILLING CODE 4310-33-P